DEPARTMENT OF THE INTERIOR

Office of the Secretary

RIN 1035

Privacy Act of 1974: As Amended; Revisions to Existing System of Records; Office of the Special Trustee for American Indians

AGENCY: Office of the Secretary, Department of the Interior.

ACTION: Proposed revisions to an existing system of records

SUMMARY: Under the Privacy Act of 1974, as amended (5 U.S.C. 552a), the Office of the Secretary is issuing public notice of our intent to change an existing Privacy Act system of records notice entitled, Interior BIA-03 “Indian Individual Monies”. The revisions will change the name and number of the system to Interior OS-02, “Individual Indian Monies.” Other changes to Interior BIA-03 include updating data in the following fields: System Locations, System Manager, Categories of Records Covered by the System, Authority for Maintenance of the System, Routine Uses of Records Maintained in the System, Storage, Retrievablility, Safeguards, Systems Manager, and Records Source Categories.

DATES: Any persons interested in commenting on the proposed revisions to this system of records may do so by submitting comments in writing to the Office of the Secretary Privacy Act Officer, U.S. Department of the Interior, MS 1414 MIB, 1849 C Street NW., Washington, DC 20240. Comments received on or before April 17, 2001 will be considered. The system will be effective as proposed unless we receive comments that lead us to change it. The Office of the Secretary will publish a revised notice if changes are made based upon a review of comments received.

FOR FURTHER INFORMATION CONTACT: Director, Office of Trust Records, 6301 Indian School Road NE., Suite 300, Albuquerque, NM 87110.

SUPPLEMENTARY INFORMATION: In this notice, the Department of the Interior is proposing to amend Interior BIA-03, “Individual Indian Monies,” (now renamed and renumbered Interior OS-02) to reflect the organizational changes made by the transfer of the system from the Bureau of Indian Affairs to the Office of the Secretary, Office of the Special Trustee for American Indians (OST). These changes help the Secretary carry out fiduciary responsibilities required under the American Indian Trust Fund Management Reform Act of 1994, Pub. L. 103-412, 108 Stat. 4239.

Thus, the Office of the Secretary proposes to amend “Individual Indian Monies,” BIA-03 to read as shown below.

Dated: March 5, 2001.
Sue Ellen Sloca,
Office of the Secretary Privacy Act Officer.

INTERIOR/OS-02

System Name:

Individual Indian Money (IIM) Trust Funds—Interior, OS-02

System Locations:

(a) U.S. Department of the Interior, Office of Trust Records (OTR), 6301 Indian School Road NE., Suite 300, Albuquerque, NM 87110.

(b) U.S. Department of the Interior, Office of Trust Funds Management (OTFM), 505 Marquette NW, Suite 1000, Albuquerque, NM 87102.

(c) OTFM field locations including area, agency, and regional offices.

(d) Office of contractors processing individual Indian trust fund accounts under contract to OTFM or OTR.

(e) Tribal offices of tribes that have compacted or contracted the individual Indian trust fund management function from OTFM under the Indian Self-Determination and Education Assistance Act, Pub. L. 93-638, 88 Stat. 2203, as amended.

Categories of Individuals Covered by the System:

Individual Indians, or their heirs, who have accounts held in trust status by the Department of the Interior.

Categories of Records in the System:

(a) Data on trust accounts in automated systems including the Trust Fund Accounting System (TFAS), the Trust Asset and Accounting Management System (TAAMS), and the Integrated Records Management System (IRMS).

(b) Imaged documents on individual Indian trust accounts.

(c) Data related to financial and investment activity from individual Indian trust accounts.

(d) Data related to custodianship of investments for individual Indian trust accounts.

(e) Paper records related to individual Indian trust accounts, including jacket folders, and financial documents such as accounting, reconciliation, and transaction data related to receipts, disbursements, investments, bonds, transfers, etc. This type of information includes a person's name, aliases, sex, birth date, address, Social Security Number, account number, tribal membership number, and blood quantum.

Authority for Maintenance of the System:

25 U.S.C. 116, 117(a)(b)(c), 118, 119, 120, 121, 151, 159, 161(a), 162(a), 4011, 4043(b)(2)(B).

Routine Uses of Records Maintained in the System, Including Categories of Users and the Purposes of such Uses:

The system's main purposes are to:

(a) Manage the collection, investment, distribution, and disbursement of individual income for Indian trust land.

(b) Disclose to the account holders of Indian trust funds, the status of their holding (by quarterly statements and on request).

(c) Provide information for Indian trust funds program management purposes.

Disclosures outside the Department of the Interior may be made to:

(a) Individual Indian trust account holders (or their heirs).

(b) Contractors who service and maintain the system for the Department ensuring that all provisions of the Privacy Act, the Trade Secrets Act, the Indian Minerals Development Act and all other applicable laws, regulations, and policies relating to contracting and record security are met.

(c) The U.S. Department of Justice, or to a court, adjudicative or other administrative body, or to a party in litigation before a court or adjudicative or administrative body, when:

(1) One of the following is a party to the proceeding or has an interest in the proceeding:

(i) The Department or any component of the Department;

(ii) Any Department employee acting in his or her official capacity;

(iii) Any Department employee acting in his or her individual capacity where the Department or the Department of Justice has agreed to represent the employee; or

(iv) The United States, when the Department determines that the Department is likely to be affected by the proceeding; and

(2) We deem the disclosure to be:

(i) Relevant and necessary to the proceeding; and

(ii) Compatible with the purpose for which we compiled the information.

(c) Another Federal agency to enable that agency to respond to an inquiry by the individual to whom the record pertains.

(d) The appropriate Federal, state, tribal, or local or foreign governmental agency that is responsible for investigating, prosecuting, enforcing or implementing a statute, rule, regulation order or license, when we become aware of an indication of a violation or potential violation of the statute, rule, regulation, order or license.

(e) A congressional office in response to an inquiry by that office by the individual to whom the record pertains.

Policies and practices for storing, retrieving, accessing, retaining, and disposing of records in the system:

Storage:

The OST stores records in one of two ways:

(a) Current paper records (such as jacket files, financial data files, ledgers, and reports) placed in file cabinets; others are stored in boxes on shelves.

(b) Automated data and images stored on magnetic tape and on optical disks in approved containers.

Retrievability:

Records are retrieved using either:

(a) Identifiers linked to individual Indian trust account holders such as name, social security numbers, tribe, tribal enrollment, or census numbers, or

(b) Organizational links and identifiers such as account numbers, tribal codes, trust account codes, and other identifiers.

Safeguards:

Following the requirements under 5 U.S.C. 552(e)(10) and 43 CFR 2.51 (a)(b) for security standards, the Office of the Secretary has taken security measures to protect system documentation by equipping our offices and workplaces with the following safeguards:

(a) Cypher-lock access or storing documents in locked file cabinets.

(b) Warning signs posted to limit access to authorized people.

(c) Storage facilities protected by locked entryways or security guards.

(d) Sign-in and sign-out logs for access to storage facilities by requestors researching, acquiring, or delivering documents.

Retention and Disposal:

The OST receives and produces records that it sends to OTR and records service centers in Albuquerque, NM. After a period of time to be specified in an authorized OTFM Records Retention Schedule, OTR transfers records to the appropriate Federal Records Center or National Archives and Records Administration facility.

System Manager and Address:

Director, Office of Trust Records, 6301 Indian School Road NE., Suite 300, Albuquerque, NM 87110.

Notification Procedures:

To determine whether your records are in this Privacy Act system of records, contact the System Manager at the address listed above in writing. The request must meet the requirements of 43 CFR 2.60. Provide the following information with your request:

(a) Proof of your identity.

(b) List of all of the names by which you have been known, such as maiden name or alias.

(c) Your Social Security Number.

(d) Mailing address.

(e) Tribe, tribal enrollment or census number.

(f) Bureau of Indian Affairs home agency.

(g) Time period(s) that records belonging to you may have been created or maintained, to the extent known by you. (See 43 CFR 2.60(b)(3)).

Record Access Procedures:

To request access to records, contact the System Manager at the address listed above in writing. The request must meet the requirements of 43 CFR 2.63. Provide the following information with your request:

(a) Proof of your identity.

(b) List of all of the names by which you have been known, such as maiden name or alias.

(c) Your Social Security Number.

(d) Mailing address.

(e) Tribe, tribal enrollment or census number.

(f) Bureau of Indian Affairs home agency.

(g) Time period(s) that records belonging to you may have been created or maintained, to the extent known by you.

(h) Specific description or identification of the records you are requesting (including whether you are asking for a copy of all of your records or only a specific part of them), and the maximum amount of money that you are willing to pay for their copying. (See 43 CFR 4.63(b)(5)).

Contesting Record Procedures:

To request an amendment of a record, contact the System Manager at the address listed above in writing. The request must meet the requirements of 43 CFR 2.71.

Records Source Categories:

(a) Bureau of Indian Affairs, Office of Trust Funds Management, Minerals Management Service, Bureau of Land Management, Office of Hearings and Appeals, and other appropriate agencies in the Department of the Interior. Other Federal and State agencies.

(b) Individual Indian trust account holders, or their heirs. Depositors into the accounts and claimants against the accounts.

(c) Tribal offices if the IIM function is contracted or compacted under the Indian Self-Determination and Education Assistance Act, Pub. L. 93-638, 88 Stat. 2203, as amended.

(d) Courts of competent jurisdiction, including tribal courts.

Exemptions Claimed for the System:

None.

[FR Doc. 01-5665 Filed 3-7-01; 8:45 am]

BILLING CODE 4310-02-P